FEDERAL COMMUNICATIONS COMMISSION

Deletion of Consent Agenda Items From December 11, 2014 Open Meeting

The following consent agenda items have been deleted from the list of items scheduled for consideration at the Thursday, December 11, 2014, Open Meeting and previously listed in the Commission's Notice of December 4, 2014.

Item No. | Bureau | Subject
1 | ENFORCEMENT | TITLE: AERCO Broadcasting Corporation, Licensee of Station WSJU-TV, San Juan, Puerto Rico.
|  | SUMMARY: The Commission will consider a Memorandum Opinion and Order concerning an Application for Review filed by AERCO Broadcasting Corporation seeking review of a Forfeiture Order issued by the Enforcement Bureau.
2 | MEDIA | TITLE: Educational Media Foundation, Application for a Construction Permit for a Minor Change to a Licensed Facility, Station W267AT, Sherburne, New York, MO&O.
|  | SUMMARY: The Commission will consider a Memorandum Opinion and Order concerning an Application for Review filed by Educational Media Foundation seeking review of an application dismissal by the Media Bureau.
3 | MEDIA | TITLE: Silver Fish Broadcasting, Inc., License Status of Silent Station DWTTT(FM), Stratford, NH.
|  | SUMMARY: The Commission will consider a Memorandum Opinion and Order concerning an Application for Review filed by Silver Fish Broadcasting, Inc. seeking review of a Media Bureau decision.
4 | MEDIA | TITLE: JNE Investments, Inc., Application for New AM Station at Bethel, MN and Langer Broadcasting Group, LLC, Application for New AM Station at Chanhassen, MN.
|  | SUMMARY: The Commission will consider a Memorandum Opinion and Order concerning an Application for Review filed by JNE Investments, Inc. seeking review of a decision by the Media Bureau.
5 | MEDIA | TITLE: Application of Radio One Licenses, LLC for a License to Cover the Modified Facilities of WOLB(AM), Baltimore, Maryland and Application of WIOO Radio, Inc. for a Minor Change to the Licensed Facilities of WIOO(AM), Carlisle, Pennsylvania.
|  | SUMMARY: The Commission will consider a Memorandum Opinion and Order concerning two Applications for Review filed by Radio One Licenses seeking review of decisions by the Media Bureau.
6 | MEDIA | TITLE: Estate of Linda Ware, Cynthia Ramage, Executor, Application to Assign the License of Broadcast Station KZPO(FM), Lindsay, California, Estate of H.L. Charles, Robert Willing, Executor, Application to Assign the Construction Permit of Broadcast Station KZPE(FM), Ford City, California, William L. Zawila, Application to Assign the Construction Permit of Broadcast Station KNGS(FM), Coalinga, California.
|  | SUMMARY: The Commission will consider a Memorandum Opinion and Order concerning an Application for Review jointly filed by jointly by the Estate of Linda Ware, Cynthia Ramage, Executor; the Estate of H.L. Charles, Robert Willing, Executor and William L. Zawila seeking review of assignment application dismissals by the Media Bureau.
7 | MEDIA | TITLE: People of Progress, Inc. Application for a New LPFM Station at Redding, California.
|  | SUMMARY: The Commission will consider a Memorandum Opinion and Order concerning an Application for Review filed by People of Progress, Inc. seeking review of an application dismissal by the Media Bureau.
8 | MEDIA | TITLE: Roman Catholic Diocese of Portland, Maine, Application for Construction Permit for a New Noncommercial Educational FM Radio Station, Scarborough, Maine; New Hampshire Public Radio, Inc., Application for Construction Permit for a New Noncommercial Educational FM Radio Station, Holderness, New Hampshire; University of Massachusetts, Application for Construction Permit for a New Noncommercial Educational FM Radio Station, Gloucester, Massachusetts and Plus Charities, Application for Construction Permit for a New Noncommercial Educational FM Radio Station, Coggon, Iowa.
|  | SUMMARY: The Commission will consider a Memorandum Opinion and Order concerning four Applications for Review seeking review of Media Bureau decisions dismissing applications for new noncommercial educational FM radio stations.
9 | MEDIA | TITLE: Channel 23 Limited Partnership, Applications for a Minor Change in Facilities and a License to Cover Construction Permit for Class A Television Broadcast Station WWME-CA, Chicago, Illinois.
|  | SUMMARY: The Commission will consider a Memorandum Opinion and Order concerning an Application for Review jointly filed by KM LPTV of Chicago-13, L.L.C. and KM LPTV of Chicago-28, L.L.C. seeking review of a Media Bureau decision.
10 | MEDIA | TITLE: Gray Television Licensee, LLC, Licensee of Station WAHU-CD.
|  | SUMMARY: The Commission will consider a Memorandum Opinion and Order and Adopting Order concerning a renewal and consent decree between the Media Bureau and Gray Television.
11 | MEDIA | TITLE: Christopher Falletti, Application for Construction Permit for New FM Station Medina, North Dakota.
|  | SUMMARY: The Commission will consider a Memorandum Opinion and Order concerning an Application for Review filed by Two Rivers Broadcasting, Inc. seeking review of a Media Bureau decision.
12 | MEDIA | TITLE: Anniston Seventh-Day Adventist Church For a New Noncommercial Educational FM Station at Anniston, Alabama and Board of Trustees of Jacksonville State University For a New Noncommercial Educational FM Station at Anniston, Alabama.
|  | SUMMARY: The Commission will consider a Memorandum Opinion and Order concerning an Application for Review filed by the Board of Trustees of Jacksonville State University seeking review of a Media Bureau decision.
13 | MEDIA | TITLE: Airen Broadcasting Company for a Minor Change to KZCC(FM), McCloud, California, The State or Oregon Acting By and Through the State Board of Higher Education on Behalf of Southern Oregon University for a Minor Change to KNHT(FM), Rio Dell, California.
|  | SUMMARY: The Commission will consider a Memorandum Opinion and Order concerning an Application for Review filed by the State of Oregon seeking review of a Media Bureau decision.
14 | MEDIA | TITLE: Aerco Broadcasting Corporation, Licensee of Station WSJU-TV, San Juan, Puerto Rico.
|  | SUMMARY: The Commission will consider a Memorandum Opinion and Order concerning an Application for Review filed by Aerco Broadcasting Corporation seeking review of a Forfeiture Order issued by the Media Bureau's Video Division.

Federal Communications Commission.
Dated: December 10, 2014.
Marlene H. Dortch,
Secretary.

[FR Doc. 2014-29694 Filed 12-18-14; 8:45 am]

BILLING CODE 6712-01-P